ENVIRONMENTAL PROTECTION AGENCY

40 CFR Part 261

[EPA-R07-RCRA-2014-0452; FRL-9934-78-Region 7]

Hazardous Waste Management System; Identification and Listing of Hazardous Waste; Direct Final Rule

AGENCY: Environmental Protection Agency (EPA).

ACTION: Direct final rule.

SUMMARY: The Environmental Protection Agency (EPA) is taking direct final action to revise delisting levels for the hazardous waste exclusion granted to John Deere Des Moines Works (John Deere) of Deere & Company, in Ankeny, Iowa to exclude or “delist” up to 600 tons per calendar year of F006/F019 wastewater treatment sludge. The wastewater treatment sludge is a filter cake generated by John Deere's Ankeny, Iowa, facility wastewater treatment system was conditionally excluded from the list of hazardous wastes on November 25, 2014. This direct final rule responds to a request submitted by John Deere to increase certain delisting levels and eliminate certain delisting levels for the excluded waste. After careful analysis and use of the Delisting Risk Assessment Software (DRAS), EPA has concluded the request may be granted.

DATES: This direct final rule is effective on December 4, 2015, without further notice, unless EPA receives adverse comment by November 4, 2015. If EPA receives adverse comment, we will publish a timely withdrawal in the Federal Register informing the public that this rule will not take effect.

ADDRESSES: EPA has established a docket for this action under Docket ID No. EPA-R07-RCRA-2014-0452. All documents in the docket are listed on the www.regulations.gov Web site. Although listed in the index, some information is not publicly available, e.g., CBI or other information whose disclosure is restricted by statute. Certain other material, such as copyrighted material, is not placed on the Internet and will be publicly available only in hard copy form. Publicly available docket materials are available either electronically through www.regulations.gov or in by contacting the further information contact below. The public may copy material from any regulatory docket at no cost for the first 100 pages and at a cost of $0.15 per page for additional copies.

FOR FURTHER INFORMATION CONTACT: Kenneth Herstowski, Waste Remediation and Permits Branch, Air and Waste Management Division, EPA Region 7, 11201 Renner Boulevard, Lenexa, KS 66219; telephone number (913) 551-7631; email address: herstowski.ken@epa.gov.

SUPPLEMENTARY INFORMATION: The information in this section is organized as follows:

I. Why is EPA using a direct final rule?

II. Does this action apply to me?

III. Background

A. What is a delisting petition?

B. How did EPA act on John Deere's delisting petition?

C. What are the changes John Deere is requesting?

D. How did EPA evaluate John Deere's request?

E. How does this final rule affect states?

IV. Statutory and Executive Order Reviews

I. Why is EPA using a direct final rule?

The EPA is publishing this rule without a prior proposed rule because we view this as a non-controversial amendment and anticipate no adverse comment. This action narrowly changes the delisting levels for the F006/F019 wastewater treatment sludge generated at the John Deere Des Moines facility in Ankeny, Iowa. If the EPA receives adverse comment, we will publish a timely withdrawal in the Federal Register informing the public that this direct final rule will not take effect. In that case, we may issue a proposed rule to propose the changes and would address public comments in any subsequent final rule based on the proposed rule.

II. Does this action apply to me?

This action only applies to the F006/F019 wastewater treatment sludge generated at the John Deere Des Moines facility in Ankeny, Iowa.

III. Background

A. What is a delisting petition?

A delisting petition is a request from a generator to EPA or to an authorized state to exclude or delist, from the RCRA list of hazardous wastes, waste the generator believes should not be considered hazardous under RCRA.

B. How did EPA act on John Deere's delisting petition?

After evaluating the delisting petition submitted by John Deere, EPA proposed, on August 20, 2014 (79 FR 49252), to exclude the waste from the lists of hazardous waste under § 261.31. EPA issued a final rule on November 25, 2014 (79 FR 70108) granting John Deere's delisting petition to have up to 600 tons per year of the F006/F019 wastewater treatment sludge generated at the John Deere Des Moines, Ankney, Iowa, facility excluded, or delisted, from the definition of a hazardous waste, once it is disposed in a Subtitle D landfill.

C. What are the changes John Deere is requesting?

John Deere requests removal of Table 1 item 1(C)—the requirement to conduct analysis of verification samples using EPA SW-846 Method 1313 Extraction at pH 2.88, 7 and 13 and the requirement not to exceed hexavalent chromium level in the resulting [Method 1313] extracts.

John Deere requests increases in delisting levels in Table 1 item 1(D) as follows: Cadmium to 25.5 milligrams per kilogram (mg/kg), chromium (total) to 51,000 mg/kg, chromium (hexavalent) to 41 mg/kg, copper to 2877 mg/kg, nickel to 3030 mg/kg, zinc to 10,170, cyanide (total) to 9 mg/kg, and oil and grease to 64,500 mg/kg.

John Deere requests the removal of delisting levels in Table 1 item 1(D) for antimony, arsenic, barium, beryllium, cobalt, lead, mercury, selenium, silver, thallium, tin, vanadium, acetone, and methyl ethyl ketone.

To support the request, John Deere submitted analytical data from verification testing events conducted since the exclusion was finalized. John Deere generated the sampling data under a Sampling Plan and Quality Assurance Project Plan (June 2012 Revision).

D. How did EPA evaluate John Deere's request?

EPA evaluated the proposed increases in the delisting levels against the listing criteria and factors cited in § 261.11(a)(2) and (a)(3). EPA evaluated the proposed increases in the delisting levels with respect to other factors or criteria to assess whether there is a reasonable basis to believe that such additional factors could cause the wastes to be hazardous. EPA considered whether the waste is acutely toxic, the concentrations of the constituents in the waste, their tendency to migrate and to bioaccumulate, their persistence in the environment once released from the waste, plausible and specific types of management of the petitioned waste, the quantities of waste generated, and waste variability.

For this delisting determination, we assumed that the waste would be disposed in a Subtitle D landfill and we considered transport of waste constituents through groundwater, surface water and air. We evaluated John Deere's petitioned waste using the Agency's Delisting Risk Assessment Software (DRAS) described in 65 FR 58015 (September 27, 2000), 65 FR 75637 (December 4, 2000), and 73 FR 28768 (May 19, 2008) to predict the maximum allowable concentrations of hazardous constituents that may be released from the petitioned waste after disposal and determined the potential impact of the disposal of John Deere's petitioned waste on human health and the environment. To predict the potential for release to groundwater from landfilled wastes and subsequent routes of exposure to a receptor, the DRAS uses dilution attenuation factors derived from EPA's Composite Model for Leachate Migration and Transformation Products (EPACMTP). From a release to groundwater, the DRAS considers routes of exposure to a human receptor of ingestion of contaminated groundwater, inhalation from groundwater while showering and dermal contact from groundwater while bathing.

From a release to surface water by erosion of waste from an open landfill into storm water run-off, DRAS evaluates the exposure to a human receptor by fish ingestion and ingestion of drinking water. From a release of waste particles and volatile emissions to air from the surface of an open landfill, DRAS considers routes of exposure of inhalation of volatile constituents, inhalation of particles, and air deposition of particles on residential soil and subsequent ingestion of the contaminated soil by a child. The technical support document and the user's guide to DRAS are included in the docket.

At a benchmark cancer risk of one in one hundred thousand (1×10⁻⁵) and a benchmark hazard quotient of 1.0, the DRAS program determined maximum allowable concentrations for each constituent in both the waste and the leachate at an annual waste volume of 1000 cubic yards disposed in a landfill for 20 years after which time the landfill is closed. We used the maximum reported total and TCLP leachate concentrations as inputs to estimate the constituent concentrations in the groundwater, soil, surface water and air.

The maximum allowable total COC concentrations in the Filter Cake as determined by the DRAS are as follows: milligrams per kilogram (mg/kg) Barium—2.85 × 10⁷; Copper—5.34 × 10⁶; Chromium (III)—4.56 × 10¹⁰; Hexavalent Chromium—1.36 × 10⁴; Cyanide—2.99 × 10⁶; Lead—1.09 × 10⁷; Mercury—1.86 × 10¹; Nickel—4.76 × 10⁶; Vanadium—1.52 × 10⁸; Zinc—1.38 × 10⁷; Acetone—3.63 × 10⁸; and Methyl Ethyl Ketone—1.45 × 10⁹. The maximum allowable leachate COC concentrations in the Filter Cake as determined by the DRAS are as follows: Milligrams per liter (mg/l) Copper—1.78 × 10²; Hexavalent Chromium—1.38 × 10¹; Cyanide—2.27 × 10¹; Lead—4.18 × 10⁰; Nickel—9.78 × 10¹; Vanadium—2.47 × 10¹; Zinc—1.48 × 10³; and Acetone—3.84 × 10³. The maximum allowable leachate COC concentrations in the Filter Cake as determined by TCLP are as follows: Milligrams per liter (mg/l) Barium—100; Chromium (total)—5; Mercury—0.2; and Methyl Ethyl Ketone—200.

The concentrations of all constituents in both the waste and the leachate are below the allowable concentrations. The requested changes in delisting levels are below the allowable concentrations. EPA's decision to grant the requested changes by John Deere is based on the information submitted in support of this direct final rule, and other information in the docket.

E. How does this final rule affect states?

EPA is issuing this exclusion under the Federal RCRA delisting program. Thus, upon the exclusion being finalized, the wastes covered will be removed from Subtitle C control under the Federal RCRA program. This will mean, first, that the wastes will be delisted in any State or territory where the EPA is directly administering the RCRA program (e.g., Iowa, Indian Country). However, whether the wastes will be delisted in states which have been authorized to administer the RCRA program will vary depending upon the authorization status of the States and the particular requirements regarding delisted wastes in the various states.

Some other generally authorized states have not received authorization for delisting. Thus, the EPA makes delisting determinations for such states. However, RCRA allows states to impose their own regulatory requirements that are more stringent than EPA's, under Section 3009 of RCRA. These more stringent requirements may include a provision that prohibits a Federally issued exclusion from taking effect in the state, or that requires a state concurrence before the Federal exclusion takes effect, or that allows the state to add conditions to any Federal exclusion. We urge the petitioner to contact the state regulatory authority in each state to or through which it may wish to ship its wastes to establish the status of its wastes under the state's laws.

EPA has also authorized some states to administer a delisting program in place of the Federal program, that is, to make state delisting decisions. In such states, the state delisting requirements operate in lieu of the Federal delisting requirements. Therefore, this exclusion does not apply in those authorized states unless the state makes the rule part of its authorized program. If John Deere transports the federally excluded waste to or manages the waste in any state with delisting authorization, John Deere must obtain a delisting authorization from that state before it can manage the waste as non-hazardous in that state.

IV. Statutory and Executive Order Reviews

Under Executive Order 12866, “Regulatory Planning and Review” (58 FR 51735, October 4, 1993) and 13563 (76 FR 3821, January 21, 2011), this rule is not of general applicability and therefore is not a regulatory action subject to review by the Office of Management and Budget (OMB). This rule does not impose an information collection burden under the provisions of the Paperwork Reduction Act of 1995 (44 U.S.C. 3501 et seq.) because it applies to a particular facility only. Because this rule is of particular applicability relating to a particular facility, it is not subject to the regulatory flexibility provisions of the Regulatory Flexibility Act (5 U.S.C. 601 et seq.), or to Sections 202, 204, and 205 of the Unfunded Mandates Reform Act of 1995 (UMRA) (Pub. L. 104-4). Because this rule will affect only a particular facility, it will not significantly or uniquely affect small governments, as specified in Section 203 of UMRA. Because this rule will affect only a particular facility, this final rule does not have Federalism implications. It will not have substantial direct effects on the States, on the relationship between the national government and the States, or on the distribution of power and responsibilities among the various levels of government, as specified in Executive Order 13132, “Federalism,” (64 FR 43255, August 10, 1999). Thus, Executive Order 13132 does not apply to this rule. Similarly, because this rule will affect only a particular facility, this final rule does not have tribal implications, as specified in Executive Order 13175, “Consultation and Coordination with Indian Tribal Governments” (65 FR 67249, November 9, 2000). Thus, Executive Order 13175 does not apply to this rule. This rule also is not subject to Executive Order 13045, “Protection of Children from Environmental Health Risks and Safety Risks” (62 FR 19885, April 23, 1997), because it is not economically significant as defined in Executive Order 12866, and because the Agency does not have reason to believe the environmental health or safety risks addressed by this action present a disproportionate risk to children. The basis for this belief is that the Agency used the DRAS program, which considers health and safety risks to children, to calculate the maximum allowable concentrations for this rule. This rule is not subject to Executive Order 13211, “Actions Concerning Regulations That Significantly Affect Energy Supply, Distribution, or Use” (66 FR 28355, May 22, 2001), because it is not a significant regulatory action under Executive Order 12866. This rule does not involve technical standards; thus, the requirements of Section 12(d) of the National Technology Transfer and Advancement Act of 1995 (15 U.S.C. 272 note) do not apply. As required by Section 3 of Executive Order 12988, “Civil Justice Reform,” (61 FR 4729, February 7, 1996), in issuing this rule, EPA has taken the necessary steps to eliminate drafting errors and ambiguity, minimize potential litigation, and provide a clear legal standard for affected conduct.

The Congressional Review Act, 5 U.S.C. 801 et seq., as added by the Small Business Regulatory Enforcement Fairness Act of 1996, generally provides that before a rule may take effect, the agency promulgating the rule must submit a rule report which includes a copy of the rule to each House of the Congress and to the Comptroller General of the United States. Section 804 exempts from Section 801 the following types of rules (1) Rules of particular applicability; (2) rules relating to agency management or personnel; and (3) rules of agency organization, procedure, or practice that do not substantially affect the rights or obligations of non-agency parties (5 U.S.C. 804(3)). EPA is not required to submit a rule report regarding today's action under Section 801 because this is a rule of particular applicability. Executive Order (EO) 12898 (59 FR 7629 (February 16, 1994)) establishes Federal executive policy on environmental justice. Its main provision directs Federal agencies, to the greatest extent practicable and permitted by law, to make environmental justice part of their mission by identifying and addressing, as appropriate, disproportionately high and adverse human health or environmental effects of their programs, policies, and activities on minority populations and low-income populations in the United States.

EPA has determined that this final rule will not have disproportionately high and adverse human health or environmental effects on minority or low-income populations because it does not affect the level of protection provided to human health or the environment. The Agency's risk assessment did not identify risks from management of this material in a Subtitle D landfill. Therefore, EPA believes that any populations in proximity of the landfills used by this facility should not be adversely affected by common waste management practices for this delisted waste.

List of Subjects in 40 CFR Part 261

Environmental protection, Hazardous waste, Recycling, Reporting and recordkeeping requirements.

Authority: Sec. 3001(f) RCRA, 42 U.S.C. 6921(f).

Dated: September 14, 2015.
Mark Hague,
Acting Regional Administrator, Region 7.

For the reasons set out in the preamble, EPA amends 40 CFR part 261 as follows:

PART 261—IDENTIFICATION AND LISTING OF HAZARDOUS WASTE

1. The authority citation for part 261 continues to read as follows:

Authority: 42 U.S.C. 6905, 6912(a), 6921, 6922, 6924(y) and 6938.

2. In the second Table 1 of Appendix IX to part 261, “Wastes Excluded From Non-Specific Sources”, in the entry for “John Deere Des Moines Works of Deere & Company, Ankeny, IA”, revise entry “1. Delisting Levels” to read as follows:

Appendix IX to Part 261—Wastes Excluded Under §§ 260.20 and 260.22

* * * * *

Table 1—Wastes Excluded From Non-Specific Sources
Facility | Address | Waste description
* * * * * * *
John Deere Des Moines Works of Deere Company | Ankeny, IA
* * * * * * *
|  | 1. Delisting Levels: (A) The WWTS Filter Cake shall not exhibit any of the “Characteristics of Hazardous Waste” in 40 CFR part 261, subpart C. (B) All TCLP leachable concentrations (40 CFR 261.24(a)) for the following constituents must not exceed the following levels (mg/L for TCLP): Nickel—32.4. (C) Reserved. (D) All total concentrations for the following constituents must not exceed the following levels (mg/kg): Cadmium—25.5; Chromium (total)—51,000; Chromium (hexavalent)—41; Copper—2877; Nickel—3030; Zinc—10,170; Cyanide—9, Oil and Grease—64,500.
* * * * * * *

* * * * *

[FR Doc. 2015-24459 Filed 10-2-15; 8:45 am]

BILLING CODE 6560-50-P